DEPARTMENT OF ENERGY

Federal Energy Regulatory Commission

Notice of Application Tendered for Filing With the Commission, Establishing Procedural Schedule for Relicensing and a Deadline for Submission of Final Amendments

October 4, 2002.

Take notice that the following hydroelectric application has been filed with the Commission and is available for public inspection.

a. Type of Application: New Major License.

b. Project No.: 487-034.

c. Date Filed: September 25, 2002.

d. Applicant: PPL Holtwood, LLC.

e. Name of Project: Lake Wallenpaupack Hydroelectric Project.

f. Location: On Wallenpaupack Creek, in Wayne and Pike Counties, Pennsylvania.

g. Filed Pursuant to: Federal Power Act 16 U.S.C. 791 (a)-825(r).

h. Applicant Contact: Gary Petrewski, PPL Generation, LLC, Two North Ninth Street, Allentown, PA 18101-1179, (610) 774-5996, gpetrewski@pplweb.com.

i. FERC Contact: Patrick K. Murphy (202) 502-8755, patrick.murphy@ferc.gov.

j. Deadline for filing comments: 30 days from the issuance date of this notice.

All documents (original and eight copies) should be filed with: Magalie R. Salas, Secretary, Federal Energy Regulatory Commission, 888 First Street, NE, Washington, DC 20426. Comments, protests and interventions may be filed electronically via the Internet in lieu of paper; see 18 CFR 385.2001(a)(1)(iii) and the instructions on the Commission's Web site under the “e-Filing” link. The Commission strongly encourages electronic filings.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The existing Lake Wallenpaupack Project consists of: (1) A dam, comprised of a gravity type concrete structure and earthen embankments, totaling about 1,300 feet long; (2) a 2.5-mile-long, 14-foot-diameter steel pipeline, connecting to a surge tank, and two penstocks; (2) a 5,700-acre reservoir; (3) a powerhouse with a total installed capacity of 44 megawatts; and (4) appurtenant facilities. The applicant estimates that the average annual generation is 80,500 megawatt hours.

l. Location of the Application: A copy of the application is available for inspection and reproduction at the Commission's Public Reference and Files Maintenance Branch located at 888 First Street, NE, Room 2-A, Washington, DC 20426, or by calling (202) 502-8371. The application may be viewed on the Web at http://www.ferc.gov using the “FERRIS” link. Enter the docket number, excluding the last three digits in the docket number field, to access the document. For assistance, call 1-866-208-3676, or send an e-mail to ferconline support@ferc.gov. A copy is also available for inspection and reproduction at the address in item h above.

m. Relicensing procedures and final amendments: The Commission staff proposes to issue a single Environmental Assessment (EA) rather than issuing a draft and final EA. Staff intends to allow at least 30 days for entities to comment on the EA before final action is taken on the license application. If any person or organization objects to this staff proposed procedure, they should file comments as stipulated in item j above, explaining the basis for their objection. The application will be processed according to the following Hydro Licensing Schedule. Revisions to the schedule will be made as appropriate.

Issue Deficiency or Acceptance Letter with request for additional information—November 2002

Notice soliciting final terms and conditions—March 2003

Notice of the availability of the EA—August 2003

Ready for Commission's decision on the application—January 2004

Final amendments to the application must be filed with the Commission no later than 45 days from the issuance date of the notice soliciting final terms and conditions.

Linwood A. Watson, Jr.,
Deputy Secretary.

[FR Doc. 02-25817 Filed 10-10-02; 8:45 am]

BILLING CODE 6717-01-P